DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security.

Title: Miscellaneous Short Supply Activities.

Form Number(s): N/A.

OMB Control Number: 0694-0102.

Type of Request: Regular.

Burden Hours: 201 hours.

Number of Respondents: 1 respondent.

Average Hours Per Response: 201 hours per response.

Needs and Uses: This information collection is comprised of two rarely used short supply activities: “Registration Of U.S. Agricultural Commodities For Exemption From Short Supply Limitations On Export”, and “Petitions For The Imposition Of Monitoring Or Controls On Recyclable Metallic materials; Public Hearings.” These activities are statutory in nature and, therefore, must remain a part of BIS's information collection budget authorization.

Affected Public: Businesses and other for-profit institutions.

Frequency: On occasion.

Respondent's Obligation: Required to obtain benefits.

This information collection request may be viewed at www.reginfo.gov. Follow the instructions to view Department of Commerce collections currently under review by OMB.

Written comments and recommendations for the proposed collection should be sent within 30 days of publication of this notice to OIRA_Submission@omb.eop.gov or fax to (202) 395-5806.

Dated: April 23, 2015.
Glenna Mickelson,
Management Analyst, Office of the Chief Information Officer.

[FR Doc. 2015-09796 Filed 4-27-15; 8:45 am]

BILLING CODE 3510-33-P